DEPARTMENT OF COMMERCE

Foreign-Trade Zones Board

[Docket 44-2010]

Termination of Review of Sourcing Change, Foreign-Trade Subzone 61H, Baxter Healthcare of Puerto Rico, (Inhalation Anesthetics Manufacturing), Guayama, PR

Notice is hereby given of termination of a sourcing change review related to certain chemical ingredients at the manufacturing facility of Baxter Healthcare of Puerto Rico located in Guayama, Puerto Rico (75 FR 40795-40796, 7/14/2010). The termination is based on an analysis of the record and resulting determination that no further action is warranted.

Dated: September 3, 2010.
Andrew McGilvray,
Executive Secretary.

BILLING CODE 3510-DS-P

[FR Doc. 2010-23308 Filed 9-16-10; 8:45 am]

BILLING CODE P